ENVIRONMENTAL PROTECTION AGENCY

[FRL 9520-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 1688.07; RCRA Expanded Public Participation (Renewal); 40 CFR 124.31-124.33; and 40 CFR 270.62-270.66; was approved on 06/13/2012; OMB Number 2050-0149; expires on 06/30/2015; Approved without change.

EPA ICR Number 1713.10; Federal Operating Permit Regulations; 40 CFR part 71; was approved on 06/13/2012; OMB Number 2060-0336; expires on 06/30/2015; Approved without change.

EPA ICR Number 2163.04; NSPS for Other Solid Waste Incineration (OSWI) Units; 40 CFR part 60 subparts A and EEEE; was approved on 06/25/2012; OMB Number 2060-0563; expires on 06/30/2015; Approved without change.

EPA ICR Number 1362.09; NESHAP for Coke Oven Batteries; 40 CFR part 63 subparts A and L; was approved on 06/25/2012; OMB Number 2060-0253; expires on 06/30/2015; Approved without change.

EPA ICR Number 2170.04; Air Emissions Reporting Requirements (AERR) (Renewal); 40 CFR part 51; was approved on 06/25/2012; OMB Number 2060-0580; expires on 06/30/2015; Approved without change.

EPA ICR Number 2100.05; Federal Supplier (Small Business) Greenhouse Gas Inventory Pilot (Renewal); was approved on 06/26/2012; OMB Number 2060-0532; expires on 06/30/2015; Approved without change.

EPA ICR Number 1821.07; NESHAP for Steel Pickling, HCl Process Facilities and Hydrochloric Acid Regeneration Plants; 40 CFR part 63 subparts A and CCC; was approved on 06/26/2012; OMB Number 2060-0419; expires on 06/30/2015; Approved without change.

EPA ICR Number 2031.06; Protection of Stratospheric Ozone: Request for Applications from Critical Use Exemption for the Phaseout of Methyl Bromide (Renewal); 40 CFR part 82; was approved on 06/27/2012; OMB Number 2060-0482; expires on 06/30/2015; Approved without change.

EPA ICR Number 1432.30; Recordkeeping and Periodic Reporting of the Production, Import, Export, Recycling, Destruction, Transhipment, and Feedstock Use of Ozone-Depleting Substances (Renewal); 40 CFR 82.13; was approved on 06/27/2012; OMB Number 2060-0170; expires on 06/30/2015; Approved without change.

EPA ICR Number 2298.03; NESHAP for Nine Metal Fabrication and Finishing Source Categories; 40 CFR part 63 subparts A and XXXXXX; was approved on 06/28/2012; OMB Number 2060-0622; expires on 06/30/2015; Approved without change.

EPA ICR Number 1867.05; Voluntary Aluminum Industrial Partnership (VAIP)(Renewal); was approved on 06/28/2012; OMB Number 2060-0411; expires on 06/30/2015; Approved without change.

EPA ICR Number 1189.24; Identification, Listing and Rulemaking Petitions; 40 CFR parts 260 and 261; 40 CFR 261.2(a)(2)ii, 261.4(a)23-25 and 261.31; was approved on 06/28/2012; OMB Number 2050-0053; expires on 06/30/2015; Approved without change.

EPA ICR Number 1445.11; Continuous Release Reporting Regulations (CRRR) under CERCLA 1980 (Renewal); 40 CFR 302.8; was approved on 06/28/2012; OMB Number 2050-0086; expires on 06/30/2015; Approved without change.

EPA ICR Number 2454.01; NESHAP for Polyvinyl Chloride and Copolymers Production Area Sources (Final Rule); 40 CFR part 63, subparts A and DDDDDD; was approved on 06/29/2012; OMB Number 2060-0684; expires on 06/30/2015; Approved without change.

EPA ICR Number 2205.07; Focus Groups as Used by EPA for Economics Projects (Renewal); was approved on 06/29/2012; OMB Number 2090-0028; expires on 06/30/2015; Approved with change.

John Moses,
Director, Collections Strategies Division.

[FR Doc. 2012-16858 Filed 7-10-12; 8:45 am]

BILLING CODE P